AGENCY FOR INTERNATIONAL DEVELOPMENT

Notice of Public Information Collection Comments Requested

SUMMARY: In an effort to reduce the paperwork burden, the U.S. Agency for International Development (USAID) invites the general public and other Federal agencies to comment on the following continuing information collection, as required by the Paperwork Reduction Act for 1995. Comments are requested concerning: The accuracy of the burden estimates; ways to enhance the quality, utility, and clarity of the information collected; and ways to minimize the burden of the collection of information on the respondents, including the use of automated collection techniques, or other forms of information technology.

DATES: Submit comments on or before May 26, 2020.

FOR FURTHER INFORMATION CONTACT: Jacqueline Lewis Taylor, Bureau for Management, Office of Acquisition and Assistance—Policy Division, U.S. Agency for International Development, 1300 Pennsylvania Avenue NW, USAID Annex, Room 10.6.3F, Washington, DC 20523, (202) 916-2628 or via email jltaylor@usaid.gov.

Comments: Send comments via email to jltaylor@usaid.gov, U.S. Agency for International Development, Office of Acquisition and Assistance—Policy Division, 1300 Pennsylvania Avenue NW, USAID Annex, Room 10.6.3F, Washington DC 20523, 202-916-2628.

SUPPLEMENTARY INFORMATION: OMB No: 0412-0602.

Form No.: AID 309-1.

Title: CONTRACT WITH AN INDIVIDUAL FOR PERSONAL SERVICES.

Type of Review: A Renewal Information Collection.

Purpose: United States Agency for International Development must collect information for reporting purposes to Congress and for contract administration by the Office of Acquisition and Assistance. This collection is to record information required to award a personal services contract, which is signed by the contractor and USAID.

Annual Reporting Burden

U.S. Respondents: 550.

Total annual U.S. responses: 550.

Total annual hours requested: 137.50 hours.

Marcelle J. Wijesinghe,
Division Chief, M/OAA/Policy, U.S. Agency for International Development.

[FR Doc. 2020-06120 Filed 3-23-20; 8:45 am]

BILLING CODE P